ENVIRONMENTAL PROTECTION AGENCY

[ER-FRL-6686-9]

Environmental Impacts Statements; Notice of Availability

Responsible Agency: Office of Federal Activities, General Information (202) 564-7167 or http://www.epa.gov/compliance/nepa/. Weekly receipt of Environmental Impact Statements filed 05/07/2007 through 05/11/2007 pursuant to 40 CFR 1506.9.

EIS No. 20070183, Final EIS, FHW, CA, Big Bear Lake Bridge Replacement Project, near Big Bear Lake on CA-18 from Kilopost 71.1/71.9, Realignment and Widening Roadways, U.S. COE Section 404 Permit, Funding, San Bernardino National Forest, San Bernardino County, CA, Wait Period Ends: 06/18/2007, Contact: Tay Dam 213-202-3954.

EIS No. 20070184, Draft EIS, AFS, MT, North Bridger Allotment Management Plan Update, Proposal to Update Allotment Management Plan on 11 Livestock Grazing Allotments, Baseman Ranger District, Gallanting National Forest, Gallanting County, MT, Comment Period Ends: 07/02/2007, Contact: John Councilman 406-522-2533.

EIS No. 20070185, Draft EIS, FHW, GA, Northwest I-75/I-575 Corridor Project, Transportation Improvements, Funding, Cobb and Cherokee Counties, GA, Comment Period Ends: 07/13/2007, Contact: Wayne Fedora 404-562-3651.

EIS No. 20070186, Final EIS, SFW, AZ, Cabeza Prieta National Wildlife Refuge, Comprehensive Conservation Plan, Wilderness Stewardship Plan, Implementation, Ago, AZ, Wait Period Ends: 06/18/2007, Contact: John Slowed 505-248-7458.

EIS No. 20070187, Draft EIS, COE, TX, Calhoun County Navigation District's (CCD), Proposed Matagorda Ship Channel Improvement Project to Widened and Deepen Berthing Facilities, U.S. Army COE Section 10 and 404 Permits, Calhoun and Matagorda Counties, TX, Comment Period Ends: 07/02/2007, Contact: Denise Sloan 409-766-3962.

EIS No. 20070188, Draft EIS, FHW, NY, Fort Drum Connector Route Project, Proposed Link between I-81 and U.S. Route 11 at the Fort Drum North Gate, Town of Le Ray and Pamelia, Jefferson County, NY, Comment Period Ends: 07/02/2007 Contact: Robert E. Arnold 518-431-4127.

EIS No. 20070189, Final EIS, NRS, WV, Dunloup Creek Watershed Plan, Voluntary Floodplain Buyout, Implementation, West Virginia Third Congressional District, Fayette and Raleigh Counties, WV, Wait Period Ends: 06/18/2007, Contact: Kevin Wickey 304-284-7540.

EIS No. 20070190, Draft EIS, AFS, MT, Lolo National Forest Integrated Weed Management, To Establish Beneficial Vegetation and Weed Resistant Plant Communities, Missoula, Mineral, Sanders, Granite, Powell, Lewis and Clark, Flathead, Ravalli and Lake Counties, MT, Comment Period Ends: 07/02/2007, Contact: Andy Kulla 406-329-3962.

EIS No. 20070191, Final EIS, FAA, NM, Adoption—New Mexico Training Initiative, Proposal to Modify the Training Airspace New Cannon Air Force Base (AFB), NM, Contact: Nan Terry 817-222-5594.

US DOT/FAA adopted the U.S. DOD/UAF Final EIS 20060429 filed 10/13/2006. FAA was a cooperating agency on the project. Recirculation on the document is not necessary under 1506.3(b) of the CEQ Regulations.

EIS No. 20070192, Final EIS, AFS, NM, Buckman Water Diversion Project, Proposal to Divert Water from Rio Grande and San Juan-Chama Project, To Meet Water Supply Needs, Sante Fe National Forest and Taos Field Office, Sante Fe County, NM, Wait Period Ends: 06/18/2007, Contact: Sanford Hurlocker 505-753-7331.

EIS No. 20070193, Final Supplement, FAA, LA, ADOPTION—Realistic Bomber Training Initiative, Addresses Impacts of Wake Vortices on Surface Structures, Dyess Air Force Base, TX and Barksdale Air Force Base, LA, Contact: Nan Terry 817-222-5594.

US DOT/FAA adopted the U.S. DOD/UAF Final Supplemental EIS 20060334 filed 8/04/2006. FAA was a cooperating agency on the project. Recirculation on the document is not necessary under 1506.3(b) of the CEQ Regulations.

Amended Notices

EIS No. 20070119, Draft EIS, NOA, AK, Programmatic—Outer Continental Shelf Seismic Surveys in the Beaufort and Chukchi Seas, Proposed Offshore Oil and Gas Seismic Survey, AK, Comment Period Ends: 06/29/2007, Contact: William T. Hogarth 301-713-1632.

Revision of FR Notice Published 03/30/2007: Extending Comment Period from 05/14/2007 to 06/29/2007.

EIS No. 20070163, Final EIS, BLM, ID, Eastside Township Fuels and Vegetation Project, Address the Forest Health, Fuels, Safety, and Watershed Issues, Elk City, Idaho County, ID, Wait Period Ends: 05/29/2007, Contact: Robbin Boyce 208-962-3594.

Revision of FR Notice Published 04/27/2007: Correction Document Status from Draft to Final.

Dated: May 15, 2007.
Robert W. Hargrove,
Director, NEPA Compliance Division, Office of Federal Activities.

[FR Doc. E7-9648 Filed 5-17-07; 8:45 am]

BILLING CODE 6560-50-P